DEPARTMENT OF LABOR

Employment and Training Administration

[TA-W-82,700]

Dell Products L.P., a Subsidiary of Dell, Inc., Parmer North 1 Facility (Pni), Including On-Site Leased Workers From Adecco, Apex Systems, Inc., Apn, Aquent, Atterro Group (Pro Staff), B2B Workforce, Bay Area Techworkers, Experis (Manpower Group, Inc.), Genesys Works (Compellent), Goodwill, Hawkins, Iconma, Infosense Global, Insight Global, Integrated Human Capital (IHC), International Millennium Consultants (IMC), Modis, PDS Tech, Peter and Associates, Pyramid Consulting, Randstad, Robert Half Management Resources, TA Staffing, Tad PGS, Tan Check, Teksystems, The Select Group, Vaco Llc, Xepctit, and Emcor Facilities Services, Inc., Austin, Texas; Amended Certification Regarding Eligibility To Apply for Worker Adjustment Assistance

In accordance with Section 223 of the Trade Act of 1974, as amended (“Act”), 19 U.S.C. 2273, the Department of Labor issued a Certification of Eligibility to Apply for Worker Adjustment Assistance on June 6, 2013, applicable to workers of Dell Products L.P., a subsidiary of Dell, Inc., Parmer North 1 Facility (PNI), including on-site leased workers from Adecco, Apex Systems, Inc., APN, Aquent, ATTERRO GROUP (PRO STAFF), B2B WorkForce, Bay Area Techworkers, Experis (Manpower Group, Inc.), Genesys Works (Compellent), Goodwill, Hawkins, ICONMA, Infosense Global, Insight Global, Integrated Human Capital (IHC), International Millennium Consultants (IMC), Modis, PDS Tech, Peter and Associates, Pyramid Consulting, Randstad, Robert Half Management Resources, TA Staffing, TAD PGS, Tan Check, TekSystems, The Select Group, Vaco LLC and Xepctit, Austin, Texas. The Department's notice of determination was published in the Federal Register on July 2, 2013 (78 FR 39776).

At the request of the Texas Workforce Commission, the Department reviewed the certification for workers of the subject firm. The workers are engaged in activities related to the production of production of servers, storage, and peripheral equipment.

The investigation confirmed that workers of EMCOR Facilities Services, Inc. were employed on-site at the Austin, Texas facility and that they were sufficiently under the operational control of the firm to be considered leased workers.

The intent of the Department is to include all workers impacted by the acquisition of articles from a foreign country.

The amended notice applicable to TA-W-82,700 is hereby issued as follows:

All workers of Dell Products L.P., a subsidiary of Dell, Inc., Parmer North 1 Facility (PNI), including on-site leased workers from Adecco, Apex Systems, Inc., APN, Aquent, ATTERRO GROUP (PRO STAFF), B2B WorkForce, Bay Area Techworkers, Experis (Manpower Group, Inc.), Genesys Works (Compellent), Goodwill, Hawkins, ICONMA, Infosense Global, Insight Global, Integrated Human Capital (IHC), International Millennium Consultants (IMC), Modis, PDS Tech, Peter and Associates, Pyramid Consulting, Randstad, Robert Half Management Resources, TA Staffing, TAD PGS, Tan Check, TekSystems, The Select Group, Vaco LLC, Xepctit, and EMCOR Facilities Services, Inc., Austin, Texas, who became totally or partially separated from employment on or after April 29, 2012 through June 6, 2015, and all workers in the group threatened with total or partial separation from employment on the date of certification through June 6, 2015, are eligible to apply for adjustment assistance under Chapter 2 of Title II of the Trade Act of 1974, as amended.

Signed in Washington, DC this 9th day of April, 2014.
Michael W. Jaffe,
Certifying Officer, Office of Trade Adjustment Assistance.

[FR Doc. 2014-09752 Filed 4-28-14; 8:45 am]

BILLING CODE 4510-FN-P